DEPARTMENT OF TRANSPORTATION

Surface Transportation Board

30-Day Notice of an Information Collection Under Review by the Office of Management and Budget (OMB), and Request for Comments: Application To Open an Account for Billing Purposes

SUMMARY: The Surface Transportation Board (Board) gives notice that the Board has submitted to OMB a request for review and clearance of the Board's Application to Open an Account for Billing Purposes, in accordance with the Paperwork Reduction Act of 1995, 44 U.S.C. 3501 et seq. (PRA). The Board previously published a notice about this collection in the Federal Register on May 17, 2005 at 70 FR 28354. That notice allowed for a 60-day public review and comment period on the proposed reinstatement without change of this previously approved information collection. No comments were received.

The purpose of the current notice is to allow an additional 30 days for public comment to satisfy the requirements of the Paperwork Reduction Act, 44 U.S.C. 3507(b). Comments are requested concerning (1) whether the particular collection of information described below is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be considered by OMB prior to approval of the proposed collection.

Overview of this information collection:

Title: Application to Open an Account for Billing Purposes.

OMB Control Number: 2104-0006.

Form Number: STB Form 1032.

Number of Respondents: 20.

Affected Public: Rail carriers, shippers, and others doing business before the agency.

Estimated Time Per Response: Less than .08 hours. This estimate is based on actual past survey information.

Frequency of Response: The form will only have to be completed once by each account holder.

Total Annual Burden Hours: Less than 1.6 hours.

Total Annual “Non-Hour Burden” Cost: No “non-hour cost” burdens associated with this collection have been identified.

Needs and Uses: The Board is, by statute, responsible for the economic regulation of surface transportation carriers operating in interstate commerce. This form is for use by applicants who wish to open an account with the Board to charge fees for records search, review, copying, certification of records, filing fees, and related services rendered. The account holder would be billed on a monthly basis for payment of accumulated fees. Data provided will also be used for debt collection activities. The form requests information as required by OMB and U.S. Department of Treasury regulations for the collection of fees. This information is not duplicated by any other agency. In accordance with the Privacy Act, 5 U.S.C. 552a, all taxpayer identification and social security numbers will be secured and used only for credit management and debt collection activities. The information will be retained until the account holder indicates that he wishes to close the account and all debts are paid in full.

DATES: Written comments are due on August 29, 2005.

ADDRESSES: Written comments should be identified as “Paperwork Reduction Act Comments, Surface Transportation Board Application to Open an Account for Billing Purposes, OMB Number 2140-0006.” These comments should be directed to the Office of Management and Budget, Office of Information and Regulatory Affairs, Attention: Surface Transportation Board Desk Officer, Room 10235, 725 17th Street, NW., Washington, DC 20503.

FOR FURTHER INFORMATION CONTACT: For further information regarding the information collection, or for copies of the information collection form, contact Anthony Jacobik, Jr., (202) 565-1713. [Federal Information Relay Service (FIRS) for the hearing impaired: (800) 877-8339.]

SUPPLEMENTARY INFORMATION: Under the PRA, a Federal agency conducting or sponsoring a collection of information must display a currently valid Office of Management and Budget (OMB) control number. Collection of information is defined in 44 U.S.C. 3502(3) and 5 CFR 1320.3(c) and includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: July 25, 2005.
Vernon A. Williams,
Secretary.

[FR Doc. 05-15007 Filed 7-28-05; 8:45 am]

BILLING CODE 4915-01-P